Proclamation 9650 of September 29, 2017

Child Health Day, 2017

By the President of the United States of America

A Proclamation

On Child Health Day, we commit to protecting and promoting the health and well-being of our Nation's young people. How we treat our young people is a fundamental test of who we are as a society. Today, we reaffirm that all children deserve to grow up in healthy, safe, and loving homes, with parents or guardians who nurture, inspire, and empower them to realize their full potential.

As a father, I know the hope and joy children bring to our lives. They are society's most precious treasures and our most vulnerable population. We all share the moral responsibility to protect the health of our children, born and unborn, so they have the chance to achieve their potential.

To these ends, my Fiscal Year 2018 Budget provides a $30 million increase for the Maternal and Child Health Services Block Grant program, which enhances access to critical health services for 57 million women and children. In close partnership with States and communities, this program helps ensure mothers receive critical prenatal care and nutrition, provides aid for children with disabilities, and opens access to other vital health services. The program also addresses emerging issues that painfully affect our children, such as mental health disorders and our Nation's devastating opioid epidemic. The number of infants born physically dependent on opioids has more than quadrupled over the past decade. In addition, during the past 2 years, many States have experienced dramatic increases in the number of children in their foster-care systems, as parents have struggled with addiction and its terrible consequences. I am committed to aggressively combating the scourge of opioid abuse, so that children do not bear the burden of its devastation.

Together, we will strive to create an environment in which children of all of ages and backgrounds grow up healthy and secure, so they may use their unique talents to improve their communities and our world.

The Congress, by a joint resolution approved May 18, 1928, as amended (36 U.S.C. 105), has called for the designation of the first Monday in October as Child Health Day and has requested that the President issue a proclamation in observance of this day.

NOW, THEREFORE, I, DONALD J. TRUMP, President of the United States of America, by virtue of the authority vested in me by the Constitution and the laws of the United States do hereby proclaim Monday, October 2, 2017, as Child Health Day. I call upon families, child health professionals, faith-based and community organizations, and governments to help ensure that America's children stay safe and healthy.

IN WITNESS WHEREOF, I have hereunto set my hand this twenty-ninth day of September, in the year of our Lord two thousand seventeen, and of the Independence of the United States of America the two hundred and forty-second.

[FR Doc. 2017-21554

Filed 10-3-17; 11:15 am]

Billing code 3295-F7-P